SECURITIES AND EXCHANGE COMMISSION

[Release No. 58000]

Securities Exchange Act of 1934; Order Granting Registration of Realpoint LLC as a Nationally Recognized Statistical Rating Organization

June 23, 2008.

Realpoint LLC (“Realpoint”), a credit rating agency, furnished to the Securities and Exchange Commission (“Commission”) an application for registration as a nationally recognized statistical rating organization (“NRSRO”) under Section 15E of the Securities Exchange Act of 1934 (“Exchange Act”) for the class of credit ratings described in clause (iv) of Section 3(a)(62)(B) of the Exchange Act.

Based on the information provided in the application, Realpoint has a conflict of interest that would cause the firm to be in violation of Exchange Act Rule 17g-5(c)(1) (17 CFR 240.17g-5(c)(1)) if it became registered. Realpoint requested that the Commission grant Realpoint an exemption from the conflict of interest prohibition in Exchange Act Rule 17g-5(c)(1). Simultaneously with this Order, the Commission is issuing an Order (“Exemptive Order”) granting Realpoint an exemption from Exchange Act Rule 17g-5(c)(1) until January 1, 2009.¹

¹ Release No. 34-58001 (June 23, 2008).

The Commission finds that the application furnished by Realpoint is in the form required by Exchange Act Section 15E, Exchange Act Rule 17g-1 (17 CFR 240.17g-1), and Form NRSRO (17 CFR 249b.300) and contains the information described in subparagraph (B) of Section 15E(a)(1) of the Exchange Act.

Based on the application and Exemptive Order, the Commission finds that the requirements of Section 15E of the Exchange Act are satisfied.

Accordingly,

It is ordered, under paragraph (a)(2)(A) of Section 15E of the Exchange Act, that the registration of Realpoint LLC with the Commission as an NRSRO under Section 15E of the Exchange Act for the class of credit ratings described in clause (iv) of Section 3(a)(62)(B) of the Exchange Act is granted.

By the Commission.
Florence E. Harmon,
Acting Secretary.

[FR Doc. E8-14529 Filed 6-25-08; 8:45 am]

BILLING CODE 8010-01-P